DEPARTMENT OF THE INTERIOR

Bureau of Land Management

[LLNMP02000 L14300000 ET0000 NMNM-127501/NMNM-83404]

Notice of Proposed Withdrawal and Opportunity for Public Meeting; New Mexico

AGENCY: Bureau of Land Management, Interior.

ACTION: Notice.

SUMMARY: The Assistant Secretary of the Interior for Policy, Management and Budget proposes to withdraw on behalf of the Bureau of Land Management (BLM), 2,924.65 acres of public lands and 440 acres of federally reserved mineral interests underlying non-Federal lands in Eddy County, New Mexico, to protect highly significant caves and their associated resources. This notice segregates the public lands and reserved mineral interests for up to 2 years from location and entry under the United States mining laws and gives the public an opportunity to comment on the application and to request a public meeting.

DATES: Comments and public meeting requests must be received on or before November 7, 2013.

ADDRESSES: Comments and meeting requests should be sent to the BLM Carlsbad Field Office, 620 E. Greene Street, Carlsbad, New Mexico 88220.

FOR FURTHER INFORMATION CONTACT: Jim Goodbar, Cave/Karst Resource Specialist, at the address above, by telephone at (575) 234-5972 or by email at jgoodbar@blm.gov. Persons who use a telecommunication device for the deaf (TDD) may call the Federal Information Rely Service (FIRS) at 1-800-877-8339 to contact the above individual. The FIRS is available 24 hours a day, 7 days a week, to leave a message or question with the above individual. You will receive a reply during normal business hours.

SUPPLEMENTARY INFORMATION: The BLM filed an application requesting the Assistant Secretary for Policy, Management and Budget to withdraw, subject to valid existing rights, the following described public lands and federally reserved minerals underlying non-Federal lands from location and entry under the United States mining laws, for a period of 20 years, to protect highly significant caves and their associated resources:

New Mexico Principal Meridian

McKittrick Hill Caves

T. 22 S., R. 24 E.,

Sec.14, S½SW¼, SW¼SE¼, and W½SE¼SE¼;

Sec. 22, S½SW¼NE¼, SE¼NE¼, SE¼SE¼NW¼, E½E½SW¼, and SE¼;

Sec. 23, W½E½E½, W½E½, and W½;

Sec. 26, W½NE¼NE¼, NW¼NE¼, and N½NW¼;

Sec. 27, N½NE¼, and E½NE¼NW¼.

Mudgetts/Little Mudgetts Caves

T. 24 S., R. 24 E.,

Sec. 21, SE¼SW¼NW¼, SW¼SE¼NW¼, N½NE¼SW¼, and NE¼NW¼SW¼.

Big Manhole/Little Manhole Caves

T. 24 S., R. 24 E.,

Sec. 22, W½NE¼SW¼, E½SW¼SW¼, SE¼SW¼, and W½SW¼SE¼.

Honest Injun Cave

T. 22 S., R. 25 E.,

Sec. 28, lot 6.

Yellow Jacket and Lair Caves

T. 23 S., R. 25 E.,

Sec. 14, S½SE¼SW¼ and S½S½SE¼;

Sec. 23, NE¼ and NE¼NW¼.

KFF (Elliott's) Cave

T. 24 S., R. 25 E.,

Sec. 23, SE¼NE¼SE¼ and E½SE¼SE¼;

Sec. 24, W½NE¼SW¼, NW¼SW¼, N½SW¼SW¼, SW¼SW¼SW¼, and NW¼SE¼SW¼.

Chosa Draw Caves

T. 25 S., R. 25 E.,

Sec. 20, E½SE¼;

Sec. 21, S½SE¼NE¼ and S½;

Sec. 22, SW¼SW¼NW¼ and W½W½SW¼;

Sec. 27, W½NW¼NW¼;

Sec. 28, E½NE¼;

Sec. 29, E½NE¼, E½W½NE¼, NE¼SE¼, and E½NW¼SE¼.

Lost Cave

T. 22 S., R.26 E.,

Sec. 22, NE¼NE¼NE¼ and N½SE¼NE¼NE¼;

Sec. 23, W½NW¼NW¼NW¼ and NW¼SW¼NW¼NW¼.

Fence Canyon Cave Area

T. 24 S., R. 26 E.,

Sec. 17, NW¼NW¼;

Sec. 18, lot 3, E½NE¼NE¼, S½NE¼, SE¼NW¼, NE¼SW¼, N½SE¼SW¼, and N½SE¼.

The following describe non-Federal surface and Federal minerals:

New Mexico Principal Meridian

Chosa Draw Caves

T. 25 S., R. 25 E.,

Sec. 28, NW¼NE¼, W½, and W½SE¼.

The total areas described aggregate 2,924.64 acres of public lands and 440 acres of Federal minerals underlying non-Federal lands in Eddy County.

The Assistant Secretary for Policy, Management and Budget approved the BLM's petition/application; therefore, the petition constitutes a withdrawal proposal of the Secretary of the Interior (43 CFR 2310.1-3(e)).

The purpose of the proposed withdrawal is to protect highly significant caves and their associated resources.

The use of a right-of-way, interagency agreement, or cooperative agreement would not adequately constrain non-discretionary uses that could irrevocably destroy the area's cave resources.

There are no suitable alternative sites as the described lands contain the significant caves and their associated natural resource values.

No water rights would be needed to fulfill the purpose of the requested withdrawal.

Records relating to the application including maps may be examined by contacting Jim Goodbar of the BLM Carlsbad Field Office at the above address and phone number. Cave locations are confidential information, therefore not subject to the Freedom of Information Act in accordance with the Federal Cave Resources Protection Act of 1988.

For the period until November 7, 2013, all persons who wish to submit comments, suggestions, or objections in connection with the proposed withdrawal application may present their views in writing to the BLM Carlsbad Field Office at the address noted above. Comments, including names and street addresses of respondents, will be available for public review at the BLM Carlsbad Field Office, at the address above, during regular business hours, 8:00 a.m. to 4:00 p.m., Monday through Friday, except Federal holidays.

Before including address, phone number, email address, or any other personal identifying information in your comments, you should be aware that your entire comment—including personal identifying information—may be made publicly available at any time. While you can ask us in your comment to withhold your personal identifying information from public view, we cannot guarantee that we will be able to do so.

Notice is hereby given that an opportunity for a public meeting is afforded in connection with the proposed withdrawal. All interested persons who desire a public meeting for the purpose of being heard on the proposed withdrawal must submit a written request to the BLM Carlsbad Field Office no later than November 7, 2013. If the authorized officer determines that a public meeting will be held, a notice of the time and place will be published in the Federal Register and through local media, newspapers, and the BLM Web site at: http://www.blm.gov/nm/st/en/fo/Carlsbad_Field_Office.html, at least 30 days before the scheduled date of the meeting.

For a period until August 10, 2015 the public lands and federally reserved minerals described in this notice will be segregated from location and entry under the United States mining laws unless the application is denied or cancelled or the withdrawal is approved prior to that date. Licenses, permits, cooperative agreements, or discretionary land use authorizations of a temporary nature which will not significantly impact the values to be protected by the withdrawal may be allowed with the approval of the authorized officer of the BLM during the segregative period.

This application will be processed in accordance with the regulations set forth in 43 CFR 2310.3.

William Merhege,
Deputy State Director, Division of Lands and Resources.

[FR Doc. 2013-19345 Filed 8-8-13; 8:45 am]

BILLING CODE 4310-FB-P